DEPARTMENT OF ENERGY

Federal Energy Regulatory Commission

[Docket Nos. RM01-12-000 et al.]

Notice of Technical Conference

August 19, 2003.

In the matter of: RM01-12-000, RT01-2-000, RT01-98-000, ER03-404-000, ER03-405-000, ER03-406-000, EL03-116-000, PA03-12-000, EC98-40-000, ER98-2770-000 and ER98-2876-000, ER03-262-000, ER03-263-000, EL02-65-000, RT01-88-000, ER99-3144-000 and EC99-80-000, ER01-2992-000, RT01-84-000, ER01-123-000, ER01-2999-000, RT01-26-005, ER01-2993-000, RT01-37-000 and ER01-2997-000, ER01-2995-000, EL02-111-000, OA97-261-000 and ER97-1082-000, ER97-3189-000, EC97-38-000, ER97-3273-000, EL97-44-000, OA97-678-000, ER96-2516-000, EC96-28-000, and EL96-69-000, ER96-2668-000 and EC96-29-000; Remedying Undue Discrimination through Open Access Transmission Service and Standard Electricity Market Design; PJM Interconnection, LLC; PJM Interconnection, LLC; PJM Interconnection, LLC; PJM Interconnection, LLC; PJM Interconnection, LLC; Reliant Energy Mid-Atlantic Power Holdings, LLC v. PJM Interconnection, LLC; Transmission Congestion on the Delmarva Peninsula; American Electric Power Company, Inc. and South West Corporation; American Electric Power Service Corporation, Commonwealth Edison Company, Dayton Power and Light Company and Virginia Electric and Power Company (New PJM Companies) and PJM Interconnection, LLC; Commonwealth Edison Company; Alliance Companies, et al.; Alliance Companies, et al.; Alliance Companies, et al.; Exelon Corporation et al.; Illinois Power Company; Northern Indiana Public Service Company; Virginia Electric and Power Company; Dayton Power and Light Company; American Electric Power Service Corporation; Midwest Independent System Operator et al.; Pennsylvania-New Jersey-Maryland Interconnection; Atlantic City Electric Company, et al.; Pennsylvania Electric Company, et al.; Pennsylvania Electric Company, et al.; Pennsylvania-New Jersey-Maryland Interconnection Restructuring; PJM Interconnection, L.L.C.; Atlantic City Electric Company, et al.; PECO Energy Company.

As announced in the Notice of Technical Conference issued on August 7, 2003, a technical conference will be held on August 28, 2003, to discuss with states and market participants in the PJM region the timetables for addressing wholesale power market design issues and to explore ways to provide flexibility the region may need to meet the requirements of the final rule in this proceeding. Members of the Commission will attend and participate in the discussion.

The conference will focus on the issues identified in the agenda, which is appended to this notice as Attachment A. However, participants/stakeholders may present their views on other important issues that relate to the development of the Wholesale Power Market Platform.

The conference will begin at 1 p.m. Eastern Time and will adjourn at about 5 p.m. Eastern Time at the Wyndham Hotel, 700 King Street, Wilmington, Delaware. The conference is open for the public to attend, and registration is not required; however, in-person attendees are asked to register for the conference on-line at http://www.ferc.gov /whats-new/registration/smd_0828-form.asp.

This technical conference will immediately follow a meeting of the PJM Members Committee, which will be held that morning at the same location. PJM offers a web broadcast of its meeting through the PJM Web site and will also broadcast the FERC technical conference. To access the web broadcast, go to http://www.pjm.com/committees/members/members.html. To access the broadcast window directly, go to http://events01.activate.net/pmtv/pjm/10064/.

Transcripts of the conference will be immediately available from Ace Reporting Company (202-347-3700 or 1-800-336-6646) for a fee. They will be available for the public on the Commission's eLibrary (FERRIS) seven calendar days after FERC receives the transcript. Additionally, Capitol Connection offers the opportunity to remotely listen to the conference via the Internet or a Phone Bridge Connection for a fee. Interested persons should make arrangements as soon as possible by visiting the Capitol Connection Web site at http://www.capitolconnection.gmu.edu and clicking on “FERC.” If you have any questions contact David Reininger or Julia Morelli at the Capitol Connection (703-993-3100).

For more information about the conference, please contact Sarah McKinley at (202) 502-8004 or sarah.mckinley@ferc.gov.

Magalie R. Salas,
Secretary.

Appendix A

Agenda

1-1:20 p.m. Opening Remarks.

Pat Wood, III, Chairman, Federal Energy Regulatory Commission

Gail C. McDonald, Commissioner, Maryland Public Service Commission

David W. Hadley, Commissioner, Indiana Utility Regulatory

Commission 1:20-1:45 p.m.—PJM's Compliance with the White Paper Phil Harris, CEO, PJM Interconnection

1:45-2:30 p.m.—State Commission Input

Glen R. Thomas, Commissioner, Pennsylvania Public Utility Commission

Frederick F. Butler, Commissioner, New Jersey Board of Public Utilities

Arnetta McRae, Chair, Delaware Public Service Commission

Kevin K. Wright, Chairman, Illinois Commerce Commission

2:30-3:15 p.m.—Stakeholder Presentations

Generator Sector

Bruce Bleiweis, Director, Asset Commercialization, Reliant Energy Services, Inc.

Transmission Sector

Ralph Bourquin, Executive Director, Transmission, Baltimore Gas & Electric Company

Other Supplier Sector (split time)

Ronald Matlock, Manager of Regulatory Affairs Duke Energy Trading & Marketing, L.L.C.

To be named

Electric Distributor Sector

Patrick McCullar, President & CEO Delaware Municipal Electric Cooperative

End Use Sector

David Kleppinger, Counsel, McNees Wallace & Nurick, L.L.C.

3:15-3:30 p.m.—Break

3:30-5 p.m.—State Commissioner/FERC/Industry Dialogue and Summary of Next Steps

(All attending State Commissioners, stakeholder representatives, FERC Commissioners)

[FR Doc. 03-22009 Filed 8-27-03; 8:45 am,

BILLING CODE 6717-01-P